DEPARTMENT OF LABOR

Employment and Training Administration

Comment Request for Extension of a Currently Approved Information Collection: Labor Condition Application and Instructions for H-1B, H-1B1, and E-3 Nonimmigrants; Forms ETA 9035, ETA 9035E and ETA 9035CP and WHD Nonimmigrant Worker Information Form WH-4, OMB Control No. 1205-0310

AGENCY: Employment and Training Administration, Labor.

ACTION: Notice.

SUMMARY: The Department of Labor (Department), as part of its continuing effort to reduce paperwork and respondent burden, is conducting a pre-clearance consultation to provide the general public and Federal agencies with an opportunity to comment on the continuing collections of information in accordance with the Paperwork Reduction Act of 1995 (PRA), 44 U.S.C. 3506(c)(2)(A). The Department undertakes this consultation to ensure that requested data can be provided in the desired format, reporting burden (time and financial resources) is minimized, collection instruments are clearly understood, and the impact of collection requirements on respondents can be properly assessed. Through this notice, the Employment and Training Administration (ETA) is soliciting comments concerning the extension of the approval for the information collection, Office of Management and Budget (OMB) Control Number 1205-0310, containing Form ETA 9035—Labor Condition Application for Nonimmigrant Workers; Form ETA 9035E—Labor Condition Application for Nonimmigrants (electronic version); Form ETA 9035CP—General Instructions for the 9035 & 9035E; Form ETA 9035CP Appendix I—Mapping of 3-Digit DOT Codes to SOC/O*NET Job Titles; Form ETA 9035CP Appendix II—Sample of Acceptable Wage Survey Sources; and Wage and Hour Division (WHD) Form WH-4—Nonimmigrant Worker Information Form, which expire on January 31, 2012. A copy of the proposed information collection request can be obtained by contacting the office listed below in the addressee section of this notice.

DATES: Please submit written comments to the office listed in the addressee section below on or before December 16, 2011.

ADDRESSES: William L. Carlson, PhD, Administrator, Office of Foreign Labor Certification, U.S. Department of Labor, Room C-4312, 200 Constitution Ave., NW., Washington, DC 20210; by phone at (202) 693-3010 (this is not a toll-free number); by fax at (202) 693-2768; or by e-mail at ETA.OFLC.Forms@dol.gov subject line: Form ETA 9035.

SUPPLEMENTARY INFORMATION:

I. Background

The information collection is required by sections 212(n) and (t) and 214(c) of the Immigration and Nationality Act (INA) (8 U.S.C. 1182(n) and (t) and 1184(c)). The Department and the Department of Homeland Security have promulgated regulations to implement the INA. Specifically for this collection, 20 CFR 655 Subparts H and I and 8 CFR 214.2(h)(4) are applicable. The INA mandates that no alien may enter the United States (U.S.) for the purpose of performing professional work on a temporary basis unless the U.S. employer has attested to the Secretary of Labor (Secretary) that the working conditions for the alien will not adversely affect the working conditions of similarly employed U.S. workers; that the salary will be at least the prevailing wage for the occupational classification in the area of employment or the actual wage paid by the employer to all other individuals with similar experience and qualifications for the specific employment in question- whichever is higher; that there is no strike or lockout in the course of a labor dispute in the occupational classification at the place of employment; and that the employer has met all other requirements of the program as specified in the regulations.

II. Review Process

The Department is particularly interested in comments which:

• Evaluate whether the proposed collection of information is necessary for the proper performance of the functions of the agency, including whether the information will have practical utility;

• Evaluate the accuracy of the Department's estimate of the burden of the proposed collection of information, including the validity of the methodology and assumptions used;

• Enhance the quality, utility, and clarity of the information to be collected; and

• Minimize the burden of the collection of information, including through the use of appropriate automated, electronic, mechanical, or other technological collection techniques or other forms of information technology, e.g., permitting electronic submissions of responses.

III. Current Actions

In order to meet its statutory responsibilities under the INA, the Department needs to extend an existing collection of information pertaining to employers seeking to apply for labor condition applications to allow them to bring foreign labor to the U.S. on a temporary basis.

In the past the respondents have been for-profit businesses and not-for-profit institutions. On rare occasions the respondents have been local, State, tribal governments, or the Federal government.

The Secretary uses the collected information to determine if employers are meeting their statutory and regulatory obligations. The information collected remains the same.

Type of Review: Extension of a currently approved collection.

Agency: Employment and Training Administration.

Title(s): Labor Condition Application for H-1B, H-1B1, and E-3 Nonimmigrants and Nonimmigrant Worker Information Form.

OMB Number: 1205-0310.

Agency Form(s): Forms ETA 9035, ETA 9035E, ETA 9035CP and WHD Form WH-4

Recordkeeping: On occasion.

Affected Public: Businesses or other for-profits, not-for-profits, States, local governments, and tribal governments.

Total Respondents: 77,425.

Estimated Total Burden Hours: 325,006.

Total Burden Cost (capital/startup): $0.

Total Burden Cost (operating/maintaining): $0.

The Department will summarize and/or include comments submitted in response to this comment request in its request for OMB approval of the information collection. The comments will also become a matter of public record.

Signed in Washington, DC, this 28th of September 2011.
Jane Oates,
Assistant Secretary, Employment and Training Administration.

[FR Doc. 2011-26745 Filed 10-14-11; 8:45 am]

BILLING CODE 4510-FP-P